POSTAL RATE COMMISSION

Briefing on the Domestic Mail Manual

ACTION: Notice of briefing.

SUMMARY: The Commission will host a briefing by Postal Service representatives on Thursday, October 24, 2002 at 10 a.m. The topic is revisions to the Domestic Mail Manual. Chapter One, which describes various postal retail products, is intended for use by individual mailers. Subsequent chapters are intended to be used by various categories of business mailers. The briefing which is open to the public, will be held in the Commission's hearing room.

DATES: October 24, 2002.

ADDRESSES: Postal Rate Commission (hearing room), 1333 H Street NW., Suite 300, Washington, DC 20268-0001.

FOR FURTHER INFORMATION CONTACT: Stephen L. Sharfman, General Counsel, Postal Rate Commission, 202-789-6815.

Steven W. Williams,
Secretary.

[FR Doc. 02-25937 Filed 10-10-02; 8:45 am]

BILLING CODE 7710-FW-M